DEPARTMENT OF TRANSPORTATION

Federal Aviation Administration

Twentieth Meeting: RTCA Special Committee 214/EUROCAE WG-78: Standards for Air Traffic Data Communication Services

AGENCY: Federal Aviation Administration (FAA), U.S. Department of Transportation (DOT)

ACTION: RTCA Special Committee 214 held jointly with EUROCAE WG-78: Standards for Air Traffic Data Communication Services meeting.

SUMMARY: The FAA is issuing this notice to advise the public of nineteenth meeting of RTCA Special Committee 214 to be held jointly with EUROCAE WG-78: Standards for Air Traffic Data Communication Services.

DATES: The meeting will be held January 13-17 from 9:00 a.m. to 5:00 p.m.

ADDRESSES: The meeting will be held at RTCA, Inc., 1150 18th Street NW., Suite 910, Washington, DC 20036.

FOR FURTHER INFORMATION CONTACT: Sophie Bousquet, 202-330-0663, sbousquet@rtca.org or The RTCA Secretariat, 1150 18th Street NW., Suite 910, Washington, DC 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of Special Committee 214/EUROCAE WG-78: Standards for Air Traffic Data Communication Services. The agenda will include the following:

Monday, January 13

• Welcome, Introductions, & Administrative

• Remarks/Welcome/Introduction/Administrative Remarks

• Approval of the Agenda

• Approval of the Minutes of Plenary 19 and Review Action Item Status

• Coordination Activities: ICAO OPLINK and ICAO AC

• Status/discussion of SPR & INT Baseline 2 (Initial) documents

• Status/discussion of DO-280B/ED-110B Change 1

• Status/discussion of DO-281B/ED-92B Change 1 and DO-224C Change 1

• Review of Position Papers and Contributions

• Approval of Sub-Group Meeting Objectives

Tuesday, January 14

9:00 a.m.-5:00 p.m.: Sub-Group Sessions

Wednesday, January 15

9:00 a.m.-5:00 p.m.: Sub-Group Sessions

Thursday, January 16

• Approval of the Final version of Baseline 2 (Initial) documents

• Approval of the Final version of DO-281B/ED-92B Change 1 and DO-224C Change 1

• Approval of the Final version of the DO-280B/ED-110B Change 1

• Confirm high-level roadmap for Revision A (Final) to Baseline 2 standards

• Review need for upcoming meetings and approve dates and locations of Plenary and SG Meetings

• Any Other Business

• Adjourn

Friday, January 17

9:00 a.m.-5:00 p.m.: Sub-Group Sessions

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on December 12, 2013.
Paige L. Williams,
Management Analyst, Business Operations Group, ANG-A12, Federal Aviation Administration.

[FR Doc. 2013-30247 Filed 12-18-13; 8:45 am]

BILLING CODE 4910-13-P'